DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Recreational Angler Survey of Sea Turtle Interactions.

OMB Control Number: 0648-xxxx.

Form Number(s): None.

Type of Request: Regular (request for a new information collection).

Number of Respondents: 12,300.

Average Hours per Response: 5 minutes each for angler intercept interviews and sea turtle incidental take capture forms.

Burden Hours: 1,025.

Needs and Uses: This request is for a new information collection.

NOAA NMFS would like to conduct an intercept survey to assess the extent of interactions between recreational anglers on piers and other shore-based fishing structures, and sea turtles. This survey will also assess the feasibility of an intercept survey for this purpose in terms response rates and data collection. The survey will be administered on piers and other fixed structures nationwide, but focused within NOAA Fisheries Greater Atlantic Region and Southeast Region, and will survey approximately 36,000 individual recreational fishermen. The respondents will be verbally asked a series of questions, no longer than 5 minutes, and the interviewer will record answers. Members of the Sea Turtle Stranding and Salvage Network will also complete sea turtle incidental take capture forms when applicable.

Affected Public: Individuals or households.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: June 22, 2018.
Sarah Brabson,
NOAA PRA Clearance Officer.

[FR Doc. 2018-13808 Filed 6-26-18; 8:45 am]

BILLING CODE 3510-22-P